DEPARTMENT OF THE TREASURY

Office of Foreign Assets Control

31 CFR Parts 560 and 588

Corrections in the Iranian Transactions and Sanctions Regulations and Western Balkans Stabilization Regulations

AGENCY: Office of Foreign Assets Control, Treasury.

ACTION: Final rule.

SUMMARY: The Department of the Treasury's Office of Foreign Assets Control (OFAC) is adopting a final rule to correct a typographical error in the Iranian Transactions and Sanctions Regulations and to correct two typographical errors and incorporate one general license in the Western Balkans Stabilization Regulations.

DATES: This rule is effective April 27, 2023.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

OFAC is amending the Iranian Transactions and Sanctions Regulations, 31 CFR part 560 (ITSR), to replace the word “insure” with the word “ensure” in § 560.528.

OFAC is amending the Western Balkans Stabilization Regulations, 31 CFR part 588 (WBSR), to correct cross references in §§ 588.307 and 588.405. On December 21, 2022, OFAC issued an amendment to the WBSR (87 FR 78484). This amendment added a general license for activities of nongovernmental organizations to the WBSR, but because the amendment contained an error in the amendatory instructions, the general license could not be incorporated. OFAC is now amending the WBSR to redesignate a second general license currently in § 588.512 as § 588.513, and to properly add the nongovernmental organizations general license in § 588.512.

Public Participation

Because the amendment of the ITSR and the WBSR involves a foreign affairs function, the provisions of E.O. 12866 of September 30, 1993, “Regulatory Planning and Review” (58 FR 51735, October 4, 1993), and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the ITSR and the WBSR are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Parts 560 and 588

Administrative practice and procedure, Banks, banking, Blocking of assets, Credit, Foreign trade, Penalties, Reporting and recordkeeping requirements, Sanctions, Securities, Services.

For the reasons set forth in the preamble, OFAC amends 31 CFR parts 560 and 588 as follows:

PART 560—IRANIAN TRANSACTIONS AND SANCTIONS REGULATIONS

1. The authority citation for part 560 continues to read as follows:

Authority: 3 U.S.C. 301; 18 U.S.C. 2339B, 2332d; 22 U.S.C. 2349aa-9, 7201-7211, 8501-8551, 8701-8795; 31 U.S.C. 321(b); 50 U.S.C. 1601-1651, 1701-1706; Pub. L. 101-410, 104 Stat. 890, as amended (28 U.S.C. 2461 note); E.O. 12613, 52 FR 41940, 3 CFR, 1987 Comp., p. 256; E.O. 12957, 60 FR 14615, 3 CFR, 1995 Comp., p. 332; E.O. 12959, 60 FR 24757, 3 CFR, 1995 Comp., p. 356; E.O. 13059, 62 FR 44531, 3 CFR, 1997 Comp., p. 217; E.O. 13599, 77 FR 6659, 3 CFR, 2012 Comp., p. 215; E.O. 13846, 83 FR 38939, 3 CFR, 2018 Comp., p. 854.

Subpart E—Licenses, Authorizations, and Statements of Licensing Policy

§ 560.528 [Amended]

2. In § 560.528, remove “insure” and add in its place “ensure”.

PART 588—WESTERN BALKANS STABILIZATION REGULATIONS

3. The authority citation for part 588 is revised to read as follows:

Authority: 3 U.S.C. 301; 31 U.S.C. 321(b); 50 U.S.C. 1601-1651, 1701-1706; 22 U.S.C. 287c; Pub. L. 101-410, 104 Stat. 890, as amended (28 U.S.C. 2461 note); E.O. 13219, 66 FR 34777, 3 CFR, 2001 Comp., p. 778; E.O. 13304, 68 FR 32315, 3 CFR, 2004 Comp., p. 229; E.O. 14033, 86 FR 43905, 3 CFR, 2022 Comp., p. 591.

Subpart B—General Definitions

§ 588.307 [Amended]

4. In § 588.307, in the heading for Note 1 to § 588.306, remove “§ 588.306” and add in its place “§ 588.307”.

Subpart D—Interpretations

§ 588.405 [Amended]

5. In § 588.405, in Note 1 to § 588.405, remove “§ 588.5507” and add in its place “§ 588.507”.

Subpart E—Licenses, Authorizations, and Statements of Licensing Policy

§ 588.512 [Redesignated as § 588.513]

6. Redesignate § 588.512 as § 588.513.

7. Add new § 588.512 to read as follows:

§ 588.512 Authorizing certain transactions in support of nongovernmental organizations' activities.

(a) Except as provided in paragraph (c) of this section, all transactions prohibited by this part that are ordinarily incident and necessary to the activities described in paragraph (b) of this section by a nongovernmental organization are authorized, provided that the nongovernmental organization is not a person whose property or interests in property are blocked pursuant to this part.

(b) The activities referenced in paragraph (a) of this section are non-commercial activities designed to directly benefit the civilian population that fall into one of the following categories:

(1) Activities to support humanitarian projects to meet basic human needs, including disaster, drought, or flood relief; food, nutrition, or medicine distribution; the provision of health services; assistance for vulnerable or displaced populations, including individuals with disabilities and the elderly; and environmental programs;

(2) Activities to support democracy building, including activities to support rule of law, citizen participation, government accountability and transparency, human rights and fundamental freedoms, access to information, and civil society development projects;

(3) Activities to support education, including combating illiteracy, increasing access to education, international exchanges, and assisting education reform projects;

(4) Activities to support non-commercial development projects directly benefiting civilians, including those related to health, food security, and water and sanitation;

(5) Activities to support environmental and natural resource protection, including the preservation and protection of threatened or endangered species, responsible and transparent management of natural resources, and the remediation of pollution or other environmental damage; and

(6) Activities to support disarmament, demobilization, and reintegration (DDR) programs and peacebuilding, conflict prevention, and conflict resolution programs.

(c) This section does not authorize funds transfers initiated or processed with knowledge or reason to know that the intended beneficiary of such transfers is a person blocked pursuant to this part, other than for the purpose of effecting the payment of taxes, fees, or import duties, or the purchase or receipt of permits, licenses, or public utility services.

(d) Specific licenses may be issued on a case-by-case basis to authorize nongovernmental or other entities to engage in other activities designed to directly benefit the civilian population, including support for the removal of landmines and economic development projects directly benefiting the civilian population.

Note 1 to § 588.512. This section does not relieve any person authorized thereunder from complying with any other applicable laws or regulations.

Andrea M. Gacki,
Director, Office of Foreign Assets Control.

[FR Doc. 2023-08870 Filed 4-26-23; 8:45 am]

BILLING CODE 4810-AL-P